SECURITIES AND EXCHANGE COMMISSION

Sunshine Act Meetings

Notice is hereby given, pursuant to the provisions of the Government in the Sunshine Act, Pub. L. 94-409, that the Securities and Exchange Commission will hold the following meetings during the week of September 18, 2006:

An Open Meeting will be held on Wednesday, September 20, 2006 at 10 a.m. in the Auditorium, Room LL-002 and Closed Meetings will be held on Wednesday, September 20, 2006 at 11 a.m., Thursday, September 21, 2006 at 2 p.m. and Friday, September 22, 2006 at 2:30 p.m.

Commissioners, Counsels to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (8), (9)(B) and (10) and 17 CFR 200.402(a)(3), (5), (7), (8), (9)(ii), and (10) permit consideration of the scheduled matters at the Closed Meetings.

Commissioner Nazareth, as duty officer, voted to consider the items listed for the closed meetings in closed session.

The subject matter of the Open Meeting scheduled for Wednesday, September 20, 2006 will be:

The Commission will hear oral argument on an appeal by The Rockies Fund, Inc., a closed-end investment company, and its directors Stephen Calandrella, Charles Powell, and Clifford Thygesen (collectively “Respondents”). The matter is on remand to the Commission from the United States Court of Appeals for the District of Columbia Circuit.

The Court of Appeals affirmed the Commission's findings that Respondents violated antifraud provisions of the Securities Exchange Act of 1934 by filing quarterly and annual reports containing material misrepresentations between June 30, 1994 and December 31, 1995; that the Fund violated provisions of the Exchange Act and Calandrella, Powell, and Thygesen aided and abetted and were a cause of reporting violations by filing reports that were not in compliance with Generally Accepted Accounting Principles and that contained material misrepresentations. The Court of Appeals directed the Commission on remand to reconsider the sanctions in light of its determination to vacate some of the violations found by the Commission.

Among the issues likely to be argued are:

1. Whether it is in the public interest to prohibit Calandrella, Powell, or Thygesen from associating with or acting as an affiliated person of an investment company;

2. Whether civil money penalties should be imposed against Calandrella, Powell or Thygesen, and if so, in what amount; and

3. Whether cease-and-desist orders against Calandrella, Powell, or Thygesen are in the public interest.

The subject matter of the Closed Meeting scheduled for Wednesday, September 20, 2006 will be: Post argument discussion.

The subject matters of the Closed Meeting scheduled for Thursday, September 21, 2006 will be:

Formal orders of investigation;

Institution and settlement of injunctive actions;

Institution and settlement of administrative proceedings of an enforcement nature;

Adjudicatory matters; and

Regulatory matters regarding financial institutions.

The subject matters of the Closed Meeting for Friday, September 22, 2006 will be:

Institution and settlement of injunctive actions;

Institution and settlement of administrative proceedings of an enforcement nature; and a

Matter relating to an enforcement proceeding.

At times, changes in Commission priorities require alterations in the scheduling of meeting items.

For further information and to ascertain what, if any, matters have been added, deleted or postponed, please contact: The Office of the Secretary at (202) 551-5400.

Dated: September 12, 2006.
Nancy M. Morris,
Secretary.

[FR Doc. 06-7728 Filed 9-13-06; 11:02 am]

BILLING CODE 8010-01-P